FEDERAL TRADE COMMISSION

Privacy Act of 1974; System of Records

AGENCY: Federal Trade Commission (FTC).

ACTION: Notice of modified systems of records.

SUMMARY: The FTC is making technical revisions to several of the notices that it has published under the Privacy Act of 1974 to describe its systems of records. This action is intended to make these notices clearer, more accurate, and up-to-date.

DATES: This notice shall become final and effective on January 7, 2022.

FOR FURTHER INFORMATION CONTACT: G. Richard Gold, Attorney, Office of the General Counsel, FTC, 600 Pennsylvania Avenue NW, Washington, DC 20580, (202) 326-3355.

SUPPLEMENTARY INFORMATION: To inform the public, the FTC publishes in the Federal Register and posts on its website a “system of records notice” (SORN) for each system of records that the FTC currently maintains within the meaning of the Privacy Act of 1974, as amended, 5 U.S.C. 552a (“Privacy Act” or “Act”). See https://www.ftc.gov/about-ftc/foia/foia-reading-rooms/privacy-act-systems. The Privacy Act protects records about individuals in systems of records collected and maintained by Federal agencies. (A system is not a “system of records” under the Act unless the agency maintains and retrieves records in the system by the relevant individual's name or other personally assigned identifier.) Each Federal agency, including the FTC, must publish a SORN that describes the records maintained in each of its Privacy Act systems, including the categories of individuals that the records in the system are about where and how the agency maintains these records, and how individuals can find out whether an agency system contains any records about them or request access to their records, if any. The FTC, for example, maintains 40 systems of records under the Act. Some of these systems contain records about the FTC's own employees, such as personnel and payroll files. Other FTC systems contain records about members of the public, such as public comments, consumer complaints, or phone numbers submitted to the FTC's Do Not Call Registry.

The FTC's SORNs discussed in this notice apply only to the FTC's own Privacy Act record systems. They do not cover Privacy Act records that other Federal agencies may collect and maintain in their own systems. Likewise, the FTC's SORNs and the Privacy Act of 1974 do not cover personal records that private businesses or other non-FTC entities may collect, which may be covered by other privacy laws.

On June 12, 2008, the FTC republished and updated all of its SORNs, describing all of the agency's systems of records covered by the Privacy Act in a single document for ease of use and reference. See 73 FR 33592. To ensure the SORNs remain accurate, FTC staff reviews each SORN on a periodic basis. As a result of this systematic review, the FTC made revisions to several of its SORNs on April 17, 2009 (74 FR 17863), August 27, 2010 (75 FR 52749), February 23, 2015 (80 FR 9460), November 2, 2017 (82 FR 50871), November 6, 2018 (83 FR 55541), April 19, 2019 (84 FR 16493) and March 23, 2020 (85 FR 16361).

Based on a periodic review of its SORNs, the FTC is publishing these additional technical revisions, to ensure that the FTC's SORNs and Appendices remain clear, accurate, and up-to-date:

• First, the FTC is amending several SORNs to clarify or update information about the applicable records disposition schedules published or approved by the National Archives and Records Administration (NARA). These schedules determine how long agency records in each system should be retained and destroyed.

• Second, the FTC is amending multiple SORNs to make other technical changes (e.g., updating the official title of the system manager, the authority for maintenance of the system, and the policies and practices for storage of records).

• Third, the FTC is republishing the full text of each of the above SORNs, incorporating the technical amendments, for the convenience of the reader and in accordance with OMB Circular A-108 (2016), which reorganized the format and content for SORNs published by Federal agencies.

The FTC is not substantively adding or amending any routine uses of its Privacy Act system records. Accordingly, the FTC is not required to provide prior public comment or notice to OMB or Congress for these technical amendments, which are final upon publication. See 5 U.S.C. 552a(e)(11) and 552a(r); OMB Circular A-108, supra.

A SORN-by-SORN summary, including a more detailed description of each SORN and how it is being amended, appears below, followed by the full text of the SORNs, as amended.

I. Federal Trade Commission Law Enforcement Systems of Records

FTC-I-2 (Disciplinary Action Investigatory Files—FTC). This SORN covers records compiled to determine whether the FTC should refer an individual practicing before the FTC to appropriate authorities for alleged ethical or other misconduct. The Commission has updated the System Manager from formerly being the Deputy General Counsel for Legal Counsel to now being the Principal Deputy General Counsel. We have also updated the section for Policies and Practices for Storage of Records.

FTC-I-3 (Informal Advisory Opinion Request and Response Files—FTC). This SORN covers the records of individuals who have requested informal advisory opinions from the FTC staff and records of the responses to such requests. We have updated the section for Policies and Practices for Storage of Records.

FTC-I-4 (Clearance Applications and Response Files—FTC). This SORN covers records of individuals who have requested clearance to participate or appear on behalf of other parties in FTC matters, and records of the FTC's responses to such requests. We have updated the title for the System Manager from Deputy General Counsel to Designated Agency Ethics Official. We have also updated the section for Policies and Practices for Storage of Records.

FTC-I-6 (Public Records—FTC). This SORN covers the FTC's system of public records, which includes comments submitted by consumers and others in rulemakings, workshops, or other FTC proceedings. The FTC makes these public records routinely available for public inspection and copying, including by posting copies of such records on the internet. Most public comments are collected for the FTC by the government-wide Federal Docket Management System (FDMS), through www.regulations.gov, which is now maintained and operated on behalf of all Federal agencies by the General Services Administration (GSA). The FTC's SORN has been updated to show that the GSA is the inter-agency service provider for FDMS and that FDMS is covered by a GSA SORN. We have also updated the section for Policies and Practices for Storage of Records.

II. Federal Trade Commission Personnel Systems of Records

FTC-II-7 (Ethics Program Records—FTC). This SORN covers annual financial statements and other filings or requests made by FTC officials and employees under the FTC's ethics program. The Commission is updating the section on Retention and Disposal to cite the applicable General Records Schedule that was recently approved by NARA for government-wide use.

FTC-II-9 (Claimants Under Federal Tort Claims Act and Military Personnel and Civilian Employees' Claims Act—FTC). This SORN covers records generated by tort claims and other claims filed with the FTC by its employees or others under the named statutes. The FTC is updating the section for Policies and Practices for Storage of Records.

III. Federal Trade Commission Financial Systems of Records

FTC-III-5 (Employee Transportation Program Records—FTC). This SORN covers records relating to FTC employee transportation programs, including programs administered by the Department of Transportation (DOT) that cover certain commuting costs. The corresponding DOT SORN is DOT/ALL 8 (Employee Transportation Facilitation). See 80 FR 64493-64495 (2015). The Commission has updated the official title of the FTC system manager. The Commission is also updating the section on Retention and Disposal to cite the applicable General Records Schedule that was recently approved by NARA for government-wide use.

VII. FTC Miscellaneous Systems of Records

FTC-VII-3 (Computer Systems User Identification and Access Records—FTC). This SORN covers records that the FTC maintains on individual users of computer systems operated by the FTC or on its behalf in order to monitor and control their usage of such systems. The FTC has updated the Authority for Maintenance of the System.

FTC-VII-6 (Document Management and Retrieval System—FTC). This SORN covers legacy and current electronic data collections of FTC memoranda and other agency records that may be managed by and retrieved by the author's name or other personal identifiers. We have updated the section for Policies and Practices for Storage of Records.

FTC Systems of Records Notices

In light of the updated SORN template set forth in the revised OMB CircularA-108 (2016), the FTC is reprinting the entire text of each amended SORN when necessary for the public's benefit, to read as follows:

I. Law Enforcement Systems of Records

* * * * *

SYSTEM NAME AND NUMBER:

Disciplinary Action Investigatory Files—FTC (FTC-I-2).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 80 FR 9460, 9465 (Feb. 23, 2015).

SYSTEM MANAGER(S):

Principal Deputy General Counsel, Office of General Counsel, Federal Trade Commission, 600 Pennsylvania Avenue NW, Washington, DC 20580, email: SORNs@ftc.gov.

AUTHORITY FOR MAINTENANCE OF THE SYSTEM:

Federal Trade Commission Act, 15 U.S.C. 41 et seq.; Executive Order 10450.

PURPOSE(S) OF THE SYSTEM:

To conduct disciplinary action investigations; to make determinations based upon the results of the investigations; to report results of investigations to other agencies and authorities for their use in evaluating their programs and imposition of criminal, civil, or administrative sanctions; to report the results of investigations to other agencies or other regulatory bodies for any action deemed appropriate; and to maintain records related to those matters.

CATEGORIES OF INDIVIDUALS COVERED BY THE SYSTEM:

FTC personnel, counsel for parties in investigative or adjudicative proceedings, and others participating in FTC matters who may be subject to investigation for possible improper or unethical conduct.

CATEGORIES OF RECORDS IN THE SYSTEM:

Name, address, employment status, age, date of birth, financial information, credit information, personal history, and records collected and generated during the investigation, which may include correspondence relating to the investigation; internal staff memoranda; copies of subpoenas issued during the investigation, affidavits, statements from witnesses, transcripts of testimony taken in the investigation, and accompanying exhibits; documents, records or copies obtained during the investigation; interview notes, investigative notes, staff working papers, draft materials, and other documents and records relating to the investigation; opening reports, progress reports, and closing reports; and other investigatory information or data relating to alleged violations.

RECORD SOURCE CATEGORIES:

Individual on whom the record is maintained, complainants, informants, witnesses, and Commission personnel having knowledge or providing analysis of matter.

ROUTINE USES OF RECORDS MAINTAINED IN THE SYSTEM, INCLUDING CATEGORIES OF USERS AND THE PURPOSES OF SUCH USES:

Records in this system:

(1) May be used to determine whether disciplinary action, including suspension or disbarment from practice before the Commission, is warranted;

(2) May be transferred to the Office of Personnel Management, to a court, or a bar association; and

(3) May be used by personnel of other agencies, courts, or bar associations to whom the matter is referred.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55542-55543 (Nov. 6, 2018).

POLICIES AND PRACTICES FOR STORAGE OF RECORDS:

The FTC generally maintains these records in electronic or paper format.

POLICIES AND PRACTICES FOR RETRIEVAL OF RECORDS:

Records are indexed by individual's name, company name, industry investigation title, file or docket number.

POLICIES AND PRACTICES FOR RETENTION AND DISPOSAL OF RECORDS:

Records are retained and disposed of under applicable schedules and procedures approved by the National Archives and Records Administration.

ADMINISTRATIVE, TECHNICAL, AND PHYSICAL SAFEGUARDS:

Access is restricted to agency personnel or contractors whose responsibilities require access. Paper records are maintained in lockable rooms or file cabinets. Access to electronic records is controlled by “user ID” and password combination and/or other appropriate electronic access or network controls (e.g., firewalls). FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

EXEMPTIONS PROMULGATED FOR THE SYSTEM:

Pursuant to 5 U.S.C. 552a(k)(2), records in this system are exempt from the requirements of subsections (c)(3), (d), (e)(1), (e)(4) (G), (H), (I), and (f) of 5 U.S.C. 552a. See § 4.13(m) of the FTC Rules of Practice, 16 CFR 4.13(m).

HISTORY:

73 FR 33591-33634 (June 12, 2008).

SYSTEM NAME AND NUMBER:

Informal Advisory Opinion Request and Response Files—FTC (FTC-I-3).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 80 FR 9460, 9465 (Feb. 23, 2015).

SYSTEM MANAGER(S):

Director, Records and Filings Office, Federal Trade Commission, 600 Pennsylvania Avenue NW, Washington, DC 20580, email: SORNs@ftc.gov.

AUTHORITY FOR MAINTENANCE OF THE SYSTEM:

Federal Trade Commission Act, 15 U.S.C. 41 et seq.

PURPOSE(S) OF THE SYSTEM:

To respond to requests for informal advisory opinions; to maintain records of such requests and the staff's responses; for use by staff in coordinating and preparing future advisory opinions and assuring the consistency of such opinions; to make records of such requests and staff responses available within the FTC for historical, legal research, investigational, and similar purposes (see FTC-VII-6, Document Management and Retrieval System—FTC); and also to make appropriate portions of such records available to the public (see FTC-I-6, Public Records—FTC).

CATEGORIES OF INDIVIDUALS COVERED BY THE SYSTEM:

Applicants for informal advisory opinions from FTC staff under § 1.1(b) of the Commission's Rules of Practice, 16 CFR 1.1(b). (Applicants for formal advisory opinions from the Commission under § 1.1(a) of the Rules of Practice, 16 CFR 1.1(a), are covered by FTC-I-1, Nonpublic Investigational and Other Nonpublic Legal Program Records—FTC.)

CATEGORIES OF RECORDS IN THE SYSTEM:

Name, address, and other contact information of requester; correspondence or other documents about the business and the proposed course of action about which an advisory opinion is being sought; FTC staff responses to requests.

RECORD SOURCE CATEGORIES:

Individual proprietorship, corporation, or other business organization, counsel seeking or receiving a staff advisory opinion, and FTC employees.

ROUTINE USES OF RECORDS MAINTAINED IN THE SYSTEM, INCLUDING CATEGORIES OF USERS AND THE PURPOSES OF SUCH USES:

Records in this system may be:

(1) Referred to appropriate federal or state agencies for advice, for law enforcement, or where law enforcement action may be warranted; and

(2) Disclosed on the FTC's public record under the FTC's Rules of Practice. See FTC-I-6, Public Records—FTC.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55542-55543 (Nov. 6, 2018).

POLICIES AND PRACTICES FOR STORAGE OF RECORDS:

The FTC generally maintains these records in electronic or paper format.

POLICIES AND PRACTICES FOR RETRIEVAL OF RECORDS:

Records are indexed by name of requesting party.

POLICIES AND PRACTICES FOR RETENTION AND DISPOSAL OF RECORDS:

Records are retained and disposed of under applicable schedules and procedures approved by the National Archives and Records Administration.

ADMINISTRATIVE, TECHNICAL, AND PHYSICAL SAFEGUARDS:

For records other than those made public, access is restricted to agency personnel or contractors whose responsibilities require access. Paper records are maintained in lockable rooms or file cabinets. Access to electronic records is controlled by “user ID” and password combination and/or other appropriate electronic access or network controls (e.g., firewalls). FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

EXEMPTIONS PROMULGATED FOR THE SYSTEM:

None.

HISTORY:

73 FR 33591-33634 (June 12, 2008).

SYSTEM NAME AND NUMBER:

Clearance Application and Response Files—FTC (FTC-I-4).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 80 FR 9460, 9465 (Feb. 23, 2015).

SYSTEM MANAGER(S):

Designated Agency Ethics Official, Office of General Counsel, Federal Trade Commission, 600 Pennsylvania Avenue NW, Washington, DC 20580, email: SORNs@ftc.gov.

AUTHORITY FOR MAINTENANCE OF THE SYSTEM:

Federal Trade Commission Act, 15 U.S.C. 41 et seq.

PURPOSE(S) OF THE SYSTEM:

To evaluate applications; to make determinations in response to those applications; to maintain records of consideration given to applications requesting authorization to appear in Commission proceedings; to ensure no conflict of interest between former members or employees of the Commission and active proceedings; to make records of such applications and the agency's responses available within the FTC for historical, legal research, investigational, and similar purposes (see FTC-VII-6, Document Management and Retrieval System—FTC); and also to make appropriate portions of such records available to the public (see FTC-I-6, Public Records—FTC).

CATEGORIES OF INDIVIDUALS COVERED BY THE SYSTEM:

Former members or employees of the Commission who request authorization to appear or participate in a proceeding or investigation, formal or informal, which was pending in any manner in the Commission during that individual's tenure at the Commission.

CATEGORIES OF RECORDS IN THE SYSTEM:

Name, address, and current employment status of the requesting individual, as well as the nature of any connection with the proceeding or investigation for which clearance is sought; letters responding to those requests indicating the determination of the Commission and outlining reasons for any denial or restriction; internal Commission memoranda evaluating the request and discussing the status of any relevant pending matters.

RECORD SOURCE CATEGORIES:

Individual on whom the record is maintained and Commission staff who prepare the memoranda and response to request.

ROUTINE USES OF RECORDS MAINTAINED IN THE SYSTEM, INCLUDING CATEGORIES OF USERS AND THE PURPOSES OF SUCH USES:

Records in this system may be disclosed on the FTC's public record under the FTC's Rules of Practice. See FTC-I-6, Public Records—FTC.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55541, 55542-55543 (Nov. 6, 2018).

POLICIES AND PRACTICES FOR STORAGE OF RECORDS:

The FTC generally maintains these records in electronic or paper format.

POLICIES AND PRACTICES FOR RETRIEVAL OF RECORDS:

Indexed by name of the applicant and by the name of the investigation or proceeding.

POLICIES AND PRACTICES FOR RETENTION AND DISPOSAL OF RECORDS:

Records are retained and disposed of under applicable schedules and procedures approved by the National Archives and Records Administration.

ADMINISTRATIVE, TECHNICAL, AND PHYSICAL SAFEGUARDS:

For records other than those made public, access is restricted to agency personnel or contractors whose responsibilities require access. Paper records are maintained in lockable rooms or file cabinets. Access to electronic records is controlled by “user ID” and password combination and/or other appropriate electronic access or network controls (e.g., firewalls). FTC buildings are guarded and monitored by security personnel, cameras, ID checks, and other physical security measures.

RECORD ACCESS PROCEDURES:

See § 4.13 of the FTC's Rules of Practice, 16 CFR 4.13. For additional guidance, see also Appendix II (How to Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How to Make A Privacy Act Request), available on the FTC's website at https://www.ftc.gov/about-ftc/foia/foia-reading-rooms/privacy-act-systems at 73 FR 33592, 33634 (June 12, 2008).

NOTIFICATION PROCEDURES:

See § 4.13 of the FTC's Rules of Practice, 16 CFR 4.13. For additional guidance, see also Appendix II (How to Make A Privacy Act Request), available on the FTC's website at https://www.ftc.gov/about-ftc/foia/foia-reading-rooms/privacy-act-systems at 73 FR 33592, 33634 (June 12, 2008).

EXEMPTIONS PROMULGATED FOR THE SYSTEM:

Copies of records contained in this system that have been placed on the FTC public record are available upon request or from the FTC's website, where applicable. See FTC-I-6, Public Records—FTC. However, pursuant to 5 U.S.C. 552a(k)(2), records in this system, which reflect records that are contained in other systems of records that are designated as exempt, are exempt from the requirements of subsections (c)(3), (d), (e)(1), (e)(4)(G), (H), (I), and (f) of 5 U.S.C. 552a. See § 4.13(m) of the FTC Rules of Practice, 16 CFR 4.13(m).

HISTORY:

73 FR 33591-33634 (June 12, 2008).

* * * * *

SYSTEM NAME AND NUMBER:

Public Records—FTC (FTC-I-6).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 80 FR 9460, 9465 (Feb. 23, 2015).

SYSTEM MANAGER(S):

Director, Records and Filings Office, Federal Trade Commission, 600 Pennsylvania Avenue NW, Washington, DC 20580, email: SORNs@ftc.gov.

AUTHORITY FOR MAINTENANCE OF THE SYSTEM:

Federal Trade Commission Act, 15 U.S.C. 41 et seq.; Executive Order 10450; Freedom of Information Act, 5 U.S.C. 552; 16 CFR 4.9.

PURPOSE(S) OF THE SYSTEM:

To make appropriate portions of the records in FTC matters available to the public; to enable members of the public to review and comment on or respond to such comments; to maintain records of Commission activities related to those matters.

CATEGORIES OF INDIVIDUALS COVERED BY THE SYSTEM:

Participants in Commission investigations, rulemaking, advisory, and law enforcement proceedings; parties requesting formal advisory opinions; and consumers who have received redress or who are entitled to redress pursuant to Commission or court orders. (Businesses, sole proprietorships, or corporations are not covered by this system.)

CATEGORIES OF RECORDS IN THE SYSTEM:

Public comments and other records that an individual may submit in an agency matter, where such record is subject to routine inspection and copying under the FTC's Rules of Practice, 16 CFR 4.9(b). These records include records that either have become or are likely to become the subject of subsequent requests for substantially the same records under the Freedom of Information Act (FOIA). See 5 U.S.C. 552(a)(2)(D). This system (FTC I-6) is limited to files and records that are about an individual, and only when the file or record is pulled (“retrieved”) by the name of that individual or other identifying particular assigned to that individual (e.g., number, symbol, fingerprint, etc.). Public comments received in connection with FTC rulemakings, workshops and consent agreements are also collected on behalf of the FTC and maintained by the Government-wide Federal Docket Management System (FDMS) through a website (www.regulations.gov). The General Services Administration (GSA) manages and operates the FDMS on behalf of the Federal Government, and has published a system of records notice to cover the FDMS, including any records collected on behalf of the FTC through that system. See GSA/OGP-1 (e-Rulemaking Program Administrative System).

RECORD SOURCE CATEGORIES:

Individual respondent(s) or proposed respondent(s), company records, complainants, informants, witnesses, participants, and FTC employees.

ROUTINE USES OF RECORDS MAINTAINED IN THE SYSTEM, INCLUDING CATEGORIES OF USERS AND THE PURPOSES OF SUCH USES:

Records in this system may be:

(1) Disclosed on the FTC's public record under the FTC's Rules of Practice, including by posting copies of such records on the FTC's website, www.ftc.gov, or made public by other electronic or non-electronic means. See 16 CFR 4.9(b); or

(2) Disclosed publicly through the FDMS or for any other routine use set forth in the system of records notice published for that system of records, GSA/OGP-1, or any successor system notice for that system.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55541, 55542-55543 (Nov. 6, 2018).

POLICIES AND PRACTICES FOR STORAGE OF RECORDS:

The FTC maintains these records in electronic and non-electronic formats. The FTC maintains electronic records in this system using a combination of different databases and applications, rather than maintaining them in a single electronic system.

POLICIES AND PRACTICES FOR RETRIEVAL OF RECORDS:

Indexed by respondent's, participant's, or FTC staff member's name; company name; industry investigation title; and FTC matter number.

POLICIES AND PRACTICES FOR RETENTION AND DISPOSAL OF RECORDS:

Records are retained and disposed of under applicable schedules and procedures approved by the National Archives and Records Administration.

ADMINISTRATIVE, TECHNICAL, AND PHYSICAL SAFEGUARDS:

The FTC's websites are secured and monitored to protect against unauthorized deletion or alteration of records posted on such sites. Access to the official record copy of such records is restricted, where appropriate, to agency personnel or contractors whose responsibilities require access.

RECORD ACCESS PROCEDURES:

See § 4.13 of the FTC's Rules of Practice, 16 CFR 4.13. For additional guidance, see also Appendix II (How to Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How to Make A Privacy Act Request), available on the FTC's website at https://www.ftc.gov/about-ftc/foia/foia-reading-rooms/privacy-act-systems at 73 FR 33592, 33634 (June 12, 2008).

NOTIFICATION PROCEDURES:

See § 4.13 of the FTC's Rules of Practice, 16 CFR 4.13. For additional guidance, see also Appendix II (How to Make A Privacy Act Request), available on the FTC's website at https://www.ftc.gov/about-ftc/foia/foia-reading-rooms/privacy-act-systems at 73 FR 33592, 33634 (June 12, 2008).

EXEMPTIONS PROMULGATED FOR THE SYSTEM:

None.

HISTORY:

73 FR 33591-33634 (June 12, 2008).

* * * * *

II. Commission Personnel Systems of Records

* * * * *

SYSTEM NAME AND NUMBER:

Ethics Program Records—FTC (FTC-II-7).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 80 FR 9460, 9465 (Feb. 23, 2015).

SYSTEM MANAGER(S):

Designated Agency Ethics Official, Office of General Counsel, Federal Trade Commission, 600 Pennsylvania Avenue NW, Washington, DC 20580, email: SORNs@ftc.gov.

AUTHORITY FOR MAINTENANCE OF THE SYSTEM:

Ethics in Government Act of 1978, 5 U.S.C. app.; Ethics Reform Act of 1989, Public Law 101-194; 5 CFR parts 735 & 2634, and other applicable ethics-related laws, rules, and Executive Orders.

PURPOSE(S) OF THE SYSTEM:

To meet Federal requirements regarding the filing of employment and financial interest statements; and to assist senior Commission employees and members of the General Counsel's Office to review statements of employment and financial interests to ascertain whether a conflict of interest or apparent conflict of interest exists and, if so, to ensure that appropriate action is taken to remove the conflict; to ensure that travel reimbursements are accepted only from qualified non-Federal sources; to comply with other ethics program requirements under Federal law, policy and regulation.

CATEGORIES OF INDIVIDUALS COVERED BY THE SYSTEM:

Commission officials and employees required by FTC regulations to file statements of employment and financial interests, to enter into ethics agreements, or to obtain clearance or approval for travel reimbursements or outside employment. This system corresponds to the systems described and covered by the Government-wide system of record notices (SORNs) issued by the Office of Government Ethics (OGE) for agency ethics program records. See OGE/GOVT-1 (Executive Branch Personnel Public Financial disclosure Reports and Other Name-Retrieved Ethics Program Records); OGE/GOVT-2 (Executive Branch Confidential Financial Disclosure Reports). Visit OGE's website, www.oge.gov, for more information.

CATEGORIES OF RECORDS IN THE SYSTEM:

Statements of employment and financial interests (containing name, organization, statement of personal and family holdings and other interests in business enterprises and real property, listings of creditors and outside employment, opinions of counsel, and other information related to conflict of interest disclosures and determinations); ethics agreements; and other disclosure forms. This system also includes FTC employee requests for and documentation of ethics clearance or approval of travel reimbursements or outside employment, as well as other name-retrieved ethics records on FTC employees.

RECORD SOURCE CATEGORIES:

The subject individual or a designated person, such as a trustee, attorney, accountant, banker, or relative; federal officials who review the statements to make conflict of interest determinations; and persons alleging conflict of interests or violations of other ethics laws and persons contacted during any investigation of the allegations.

ROUTINE USES OF RECORDS MAINTAINED IN THE SYSTEM, INCLUDING CATEGORIES OF USERS AND THE PURPOSES OF SUCH USES:

Records in this system may be disclosed for any of the routine uses set forth in OGE/GOVT-1 and OGE/GOVT-2, as applicable. In addition, records in this system may be disclosed to a source when necessary to obtain information relevant to a conflict of interest investigation or determination.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55541, 55542-55543 (Nov. 6, 2018).

POLICIES AND PRACTICES FOR STORAGE OF RECORDS:

Electronic and paper records.

POLICIES AND PRACTICES FOR RETRIEVAL OF RECORDS:

By name of Commission official or employee.

POLICIES AND PRACTICES FOR RETENTION AND DISPOSAL OF RECORDS:

In accordance with GRS-2.8, the National Archives and Records Administration General Records Schedule for ethics program records, these records are generally retained for a period of six years after filing, or for such other period of time as is provided for in that schedule for certain specified types of ethics records. In cases where records are filed by, or with respect to, a nominee for an appointment requiring confirmation by the Senate when the nominee is not appointed and Presidential and Vice-Presidential candidates who are not elected, the records are generally destroyed one year after the date the individual ceased being under Senate consideration for appointment or is no longer a candidate for office. However, if any records are needed in an ongoing investigation, they will be retained until no longer needed in the investigation. Destruction is by shredding, use of burn bags, or electronic deletion.

ADMINISTRATIVE, TECHNICAL, AND PHYSICAL SAFEGUARDS:

Access is restricted to agency personnel and contractors whose responsibilities require access. Paper records are maintained in lockable file cabinets and offices. Access to electronic records is controlled by “user ID” and password combination and other access and network controls (e.g., firewalls). FTC buildings are guarded and monitored by security personnel, cameras, ID checks, and other physical security measures.

RECORD ACCESS PROCEDURES:

See § 4.13 of the FTC's Rules of Practice, 16 CFR 4.13. For additional guidance, see also Appendix II (How to Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How to Make A Privacy Act Request), available on the FTC's website at https:/www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How to Make A Privacy Act Request), available on the FTC's website at https:/www.ftc.gov/about-ftc/foia/foia-reading-rooms/privacy-act-systems and at 73 FR 33592, 33634 (June 12, 2008).

EXEMPTIONS PROMULGATED FOR THE SYSTEM:

None.

HISTORY:

80 FR 9460-9465 (February 23, 2015).

75 FR 52749-52751 (August 27, 2010).

74 FR 17863-17866 (April 17, 2009).

73 FR 33591-33634 (June 12, 2008).

* * * * *

SYSTEM NAME AND NUMBER:

Claimants Under Federal Tort Claims Act and Military Personnel and Civilian Employees' Claims Act—FTC. (FTC-II-9).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 80 FR 9460, 9465 (Feb. 23, 2015).

SYSTEM MANAGER(S):

Deputy General Counsel for Legal Counsel, Office of the General Counsel, Federal Trade Commission, 600 Pennsylvania Avenue NW, Washington, DC 20580, email: SORNs@ftc.gov.

Assistant Chief Financial Officer for Financial Systems, Internal Control and Policy, Financial Management Office, Federal Trade Commission, 600 Pennsylvania Avenue NW, Washington, DC 20580, email: SORNs@ftc.gov.

AUTHORITY FOR MAINTENANCE OF THE SYSTEM:

Federal Tort Claims Act, 28 U.S.C. 1346(b), 28 U.S.C. 2671-2680; Military Personnel and Civilian Employees' Claims Act, 31 U.S.C. 3721.

PURPOSE(S) OF THE SYSTEM:

To consider claims made under the above-cited statutes; to investigate those claims; to determine appropriate responses to those claims; and to maintain records outlining all considerations and actions related to those claims.

CATEGORIES OF INDIVIDUALS COVERED BY THE SYSTEM:

Individuals who have claimed reimbursement from FTC under Federal Tort Claims Act and Military Personnel and Civilian Employees' Claims Act.

CATEGORIES OF RECORDS IN THE SYSTEM:

Personal information relating to incidents in which the FTC may be liable for property damage, loss, or personal injuries; reimbursement applications; internal memoranda; and witness statements.

RECORD SOURCE CATEGORIES:

Individual about whom the record pertains (claimant); FTC employee involved in incident; other FTC employees or other persons having knowledge of the circumstances; official police report (if any); and insurance company representing claimant (if any).

ROUTINE USES OF RECORDS MAINTAINED IN THE SYSTEM, INCLUDING CATEGORIES OF USERS AND THE PURPOSES OF SUCH USES:

Records in this system:

(1) May be referred to Department of Justice, General Services Administration, or other federal agency when the matter comes within the jurisdiction of such agency; and

(2) May be used in discussions and correspondence with insurance companies, with other persons or entities that may be liable, with potential witnesses or others having knowledge of the matter.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55541, 55542-55543 (Nov. 6, 2018).

POLICIES AND PRACTICES FOR STORAGE OF RECORDS:

Records are maintained in electronic or paper format.

POLICIES AND PRACTICES FOR RETRIEVAL OF RECORDS:

Indexed by individual's name.

POLICIES AND PRACTICES FOR RETENTION AND DISPOSAL OF RECORDS:

Records are retained for 7 years after the matter has been resolved, and then destroyed, as provided in General Records Schedule 1.1, item 80, issued by the National Archives and Records Administration, except any claims files that are affected by court order or subject to litigation proceedings, which are destroyed when the court order is lifted or the litigation is concluded, or when the files are 7 years, whichever is later.

ADMINISTRATIVE, TECHNICAL, AND PHYSICAL SAFEGUARDS:

Access is restricted to agency personnel or contractors whose responsibilities require access. Paper records are maintained in lockable rooms or file cabinets. Access to electronic records is controlled by “user ID” and password combination and/or other appropriate access or network controls (e.g., firewalls). FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

EXEMPTIONS PROMULGATED FOR THE SYSTEM:

None.

HISTORY:

84 FR 16493-16510 (April 19, 2019).

80 FR 9460-9465 (February 23, 2015).

74 FR 17863-17866 (April 17, 2009).

73 FR 33591-33634 (June 12, 2008).

* * * * *

III. Federal Trade Commission Financial Systems of Records

SYSTEM NAME AND NUMBER:

Employee Transportation Program Records—FTC (FTC-III-5).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 80 FR 9460, 9465 (Feb. 23, 2015).

SYSTEM MANAGER(S):

Chief Administrative Services Officer, Office of the Chief Administrative Services Officer, Office of the Executive Director, Federal Trade Commission, 600 Pennsylvania Avenue NW, Washington, DC 20580, email: SORNs@ftc.gov.

AUTHORITY FOR MAINTENANCE OF THE SYSTEM:

5 U.S.C. 7905 note; Public Law 103-172; Executive Order 13150.

PURPOSE(S) OF THE SYSTEM:

Transit subsidy records are collected and maintained to implement Federal law encouraging Federal employees to use public transportation for commuting to and from work. Such records are used to authorize subsidies for qualified FTC employees to help cover such commuting costs; to ensure the accurate and timely disbursement of subsidies to such employees; and to audit and otherwise detect or prevent fraud or abuse, if any, of such subsidies. Other employee transportation program records may be collected and maintained to administer those programs, including for building security purposes (e.g., drivers' license numbers maintained for individuals who have been issued garage parking permits).

CATEGORIES OF INDIVIDUALS COVERED BY THE SYSTEM:

Past and present FTC employees who have applied for public transportation subsidies to commute for work, or who may apply to participate in other employee transportation-related programs (e.g., parking garage permits) that the DOT or FTC may administer from time to time, if any.

CATEGORIES OF RECORDS IN THE SYSTEM:

Data that the FTC may compile, generate, and maintain in connection with reviewing and approving transit subsidy applications filed by eligible FTC employees with the online system operated by Department of Transportation (DOT), which administers and distributes Federal transit subsidies.

This FTC system notice applies to application data about FTC employees that the FTC may access from DOT's system, or that the FTC may itself generate, in reviewing and approving transit subsidies requested by its employees, or to audit and verify transit disbursements made to such employees, to the extent the FTC maintains and retrieves this data from its own system of records by employee name or other identifier assigned to such individuals. This system notice does not cover the transit application data compiled and maintained by DOT, which is covered by DOT's system notice. See DOT/ALL 8 (Employee Transportation Facilitation), or any successor system notice for that system, for the categories of records maintained in DOT's system.

RECORD SOURCE CATEGORIES:

Past and current FTC employees who have applied to participate in the subsidy program; FTC offices; Department of Transportation.

ROUTINE USES OF RECORDS MAINTAINED IN THE SYSTEM, INCLUDING CATEGORIES OF USERS AND THE PURPOSES OF SUCH USES:

Records in this system:

(1) May be disclosed to the U.S. Department of Transportation (DOT) for purposes of processing and distributing subsidies to FTC employees and verifying employee compliance with program rules, and may be used and disclosed by DOT under the routine uses set forth in the applicable DOT system notice, DOT/ALL 8 (Employee Transportation Facilitation), or any successor system notice for that system; and

(2) May be disclosed to other investigatory or law enforcement authorities, where necessary, to investigate, prosecute, discipline, or pursue other appropriate action against suspected program fraud or abuse, if any.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55542-55543 (Nov. 6, 2018).

POLICIES AND PRACTICES FOR STORAGE OF RECORDS:

Records are maintained in electronic or paper format.

POLICIES AND PRACTICES FOR RETRIEVAL OF RECORDS:

Records are maintained and retrieved alphabetically by employee's last name.

POLICIES AND PRACTICES FOR RETENTION AND DISPOSAL OF RECORDS:

Transportation subsidy program administrative records are retained for three years or longer if required for business use in accordance with GRS 2.4, Item 130. Transportation subsidy program individual case files are retained for two years or longer if required for business use in accordance with GRS 2.4, Item 131.

ADMINISTRATIVE, TECHNICAL, AND PHYSICAL SAFEGUARDS:

Access is restricted to FTC personnel or contractors whose responsibilities require access. Records are maintained in passphrase protected computer systems or locked file cabinets, accessible only to the program manager or other FTC staff whose job duties require access. FTC buildings are guarded and monitored by security personnel, cameras, ID checks, and other physical security measures. Obsolete records are destroyed by disposal in burn bags, by shredding, or by similarly secure means.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

EXEMPTIONS PROMULGATED FOR THE SYSTEM:

None.

HISTORY:

82 FR 50871-50882 (November 2, 2017).

73 FR 33591-33634 (June 12, 2008).

VII. FTC Miscellaneous Systems of Records

* * * * *

SYSTEM NAME AND NUMBER:

Computer Systems User Identification and Access Records—FTC (FTC-VII-3).

SECURITY CLASSIFICATION:

Unclassified.

SYSTEM LOCATION:

Federal Trade Commission, 600 Pennsylvania Avenue NW, Washington, DC 20580.

For other locations where records may be maintained or accessed, see Appendix III (Locations of FTC Buildings and Regional Offices), available on the FTC's website at https://www.ftc.gov/about-ftc/foia/foia-reading-rooms/privacy-act-systems and at 80 FR 9460, 9465 (Feb. 23, 2015).

SYSTEM MANAGER(S):

Core Engineering and ISSO Services Program Manager, Office of the Chief Information Officer, Federal Trade Commission, 600 Pennsylvania Avenue NW, Washington, DC 20580, email: SORNs@ftc.gov.

AUTHORITY FOR MAINTENANCE OF THE SYSTEM:

Federal Trade Commission Act, 15 U.S.C. 41 et seq.; Federal Information Security Modernization Act of 2014, 44 U.S.C. 3551 et seq.

PURPOSE(S) OF THE SYSTEM:

To monitor usage of computer systems; to support server and desktop hardware and software; to ensure the availability and reliability of the agency computer facilities; to help document and/or control access to various computer systems; to audit, log, and alert responsible FTC personnel when certain personally identifying information is accessed in specified systems; to prepare budget requests for automated services; to identify the need for and to conduct training programs, which can include the topics of information security, acceptable computer practices, and FTC information security policies and procedures; to monitor security on computer systems; to add and delete users; to investigate and make referrals for disciplinary or other action if improper or unauthorized use is suspected or detected.

CATEGORIES OF INDIVIDUALS COVERED BY THE SYSTEM:

Commission employees and others (e.g., contractors) with access to FTC computer systems, including various system platforms, applications, and databases (e.g., Outlook, Business Objects, Oracle, Redress, STAFFID, CIS, etc.), operated by the FTC or by a contractor for the FTC.

CATEGORIES OF RECORDS IN THE SYSTEM:

This Privacy Act system consists of the login and other user identification and access records that FTC computer systems routinely compile and maintain about users of those systems. These records include user data such as: User name; email address; employee or other user identification number; organization code; systems or services to which the individual has access; systems and services used; amount of time spent using each system; number of usage sessions; and user profile. These system records include log-in, passphrase, and other system usage files and directories when they contain data on specific users. Many FTC computer systems collect and maintain additional information, other than system use data, about individuals inside and outside the FTC. See a complete list of FTC Privacy Act systems on the FTC's website, http://www.ftc.gov/foia/listofpaysystems.shtm, to learn about other categories of information collected and maintained about individuals in the FTC's computer systems.

RECORD SOURCE CATEGORIES:

Individual about whom record is maintained; internal and external information systems that record usage.

ROUTINE USES OF RECORDS MAINTAINED IN THE SYSTEM, INCLUDING CATEGORIES OF USERS AND THE PURPOSES OF SUCH USES:

Records in this system may be disclosed to contractors in connection with developing, maintaining, operating or servicing FTC computerized systems.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55542-55543 (Nov. 6, 2018).

POLICIES AND PRACTICES FOR STORAGE OF RECORDS:

Electronic and paper records.

POLICIES AND PRACTICES FOR RETRIEVAL OF RECORDS:

Indexed by individual's name; employee identification number; and organization code, or other searchable data fields or codes.

POLICIES AND PRACTICES FOR RETENTION AND DISPOSAL OF RECORDS:

Records are retained according to GRS 3.2, item 030, and are destroyed when business use ceases.

ADMINISTRATIVE, TECHNICAL, AND PHYSICAL SAFEGUARDS:

Access is restricted to agency personnel and contractors whose responsibilities require access. Paper records, if any, maintained in lockable rooms or file cabinets. Access to electronic records is controlled by “user ID” and passphrase combination and/or other appropriate electronic access or network controls (e.g., firewalls). FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

EXEMPTIONS PROMULGATED FOR THE SYSTEM:

None.

HISTORY:

85 FR 16349-16361 (March 23, 2020).

80 FR 9460-9465 (February 23, 2015).

74 FR 17863-17866 (April 17, 2009).

73 FR 33591-33634 (June 12, 2008).

* * * * *

SYSTEM NAME AND NUMBER:

Document Management And Retrieval System—FTC (FTC-VII-6).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 80 FR 9460, 9465 (Feb. 23, 2015).

SYSTEM MANAGER(S):

Director, Records and Filings Office, Federal Trade Commission, 600 Pennsylvania Avenue NW, Washington, DC 20580, email: SORNs@ftc.gov.

AUTHORITY FOR MAINTENANCE OF THE SYSTEM:

Federal Trade Commission Act, 15 U.S.C. 41 et seq.

PURPOSE(S) OF THE SYSTEM:

To provide staff with the ability to search for and access copies of agency documents needed for legal and economic research activities of the Commission (e.g., internal memoranda, economic reports, other agency work product); to provide FTC staff processing Freedom of Information Act or other disclosure requests with the ability to search for and access copies of potentially responsive documents outlining the actions and considerations of the Commission, individual Commissioners, and the staff; to provide the ability, once the automated system is fully implemented, to electronically manage the writing, editing, storage, retrieval and disposal of such documents (e.g., memoranda, correspondence), and to provide for additional document management functions, if any.

CATEGORIES OF INDIVIDUALS COVERED BY THE SYSTEM:

Individuals who have written documents contained in Commission files, and other individuals whose names or other personally identifying data are used to search and retrieve documents from the system.

CATEGORIES OF RECORDS IN THE SYSTEM:

Name of author and documents written by that individual; names or other data about other individuals by which documents in the system are searched and retrieved; finding aids or document indexes. Records in this system may duplicate records included in other FTC systems of records. See, e.g., FTC-I-1 (Nonpublic Investigational and Other Nonpublic Legal Program Records—FTC), FTC-I-6 (Public Records—FTC).

RECORD SOURCE CATEGORIES:

FTC employees and others who submit documents to the Commission.

ROUTINE USES OF RECORDS MAINTAINED IN THE SYSTEM, INCLUDING CATEGORIES OF USERS AND THE PURPOSES OF SUCH USES:

Records in this system may be disclosed to contractors in connection with document processing, storage, disposal and similar records management and retrieval activities.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55541, 55542-55543 (Nov. 6, 2018).

POLICIES AND PRACTICES FOR STORAGE OF RECORDS:

Older records are stored on electronic and non-electronic formats. The system also comprises one or more structured databases using commercial software applications to search, retrieve, and manage records stored electronically.

POLICIES AND PRACTICES FOR RETRIEVAL OF RECORDS:

Indexed by author of the document, or other data fields or codes.

POLICIES AND PRACTICES FOR RETENTION AND DISPOSAL OF RECORDS:

Records are retained and destroyed in accordance with schedules and procedures issued or approved by the National Archives and Records Administration.

ADMINISTRATIVE, TECHNICAL, AND PHYSICAL SAFEGUARDS:

Access is restricted to agency personnel and contractors whose responsibilities require access. Paper or other non-digital records are stored in lockable file cabinets or offices. Access to electronic records is controlled by “user ID” and password combination, and/or other appropriate electronic access or network controls (e.g., firewalls). FTC buildings are guarded and monitored by security personnel, cameras, ID checks, and other physical security measures.

RECORD ACCESS PROCEDURES:

See § 4.13 of the FTC's Rules of Practice, 16 CFR 4.13. For additional guidance, see also Appendix II (How to Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How to Make A Privacy Act Request), available on the FTC's website at https://www.ftc.gov/about-ftc/foia/foia-reading-rooms/privacy-act-systems at 73 FR 33592, 33634 (June 12, 2008).

NOTIFICATION PROCEDURES:

See § 4.13 of the FTC's Rules of Practice, 16 CFR 4.13. For additional guidance, see also Appendix II (How to Make A Privacy Act Request), available on the FTC's website at https://www.ftc.gov/about-ftc/foia/foia-reading-rooms/privacy-act-systems at 73 FR 33592, 33634 (June 12, 2008).

EXEMPTIONS PROMULGATED FOR THE SYSTEM:

Records contained in this system that have been placed on the FTC public record are available upon request or, where applicable, made available online. See FTC-I-6 (Public Records—FTC). However, pursuant to 5 U.S.C. 552a(k)(2), records in this system, which reflect records that are contained in other systems of records that are designated as exempt, are exempt from the requirements of subsections (c)(3), (d), (e)(1), (e)(4)(G), (H), (I), and (f) of 5 U.S.C. 552a. See § 4.13(m) of the FTC Rules of Practice, 16 CFR 4.13(m).

HISTORY:

73 FR 33591-33634 (June 12, 2008).

* * * * *

Josephine Liu,
Assistant General Counsel for Legal Counsel.

[FR Doc. 2022-00075 Filed 1-6-22; 8:45 am]

BILLING CODE 6750-01-P